DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than November 19, 2012.

Interested persons are invited to submit written comments regarding the subject matter of the investigations to the Director, Office of Trade Adjustment Assistance, at the address shown below, not later than November 19, 2012.

The petitions filed in this case are available for inspection at the Office of the Director, Office of Trade Adjustment Assistance, Employment and Training Administration, U.S. Department of Labor, Room N-5428, 200 Constitution Avenue, NW., Washington, DC 20210.

Signed at Washington, DC this 24th day of October 2012.
Elliott S. Kushner,
Certifying Officer, Office of Trade Adjustment Assistance.

Appendix
[22 TAA petitions instituted between 10/15/12 and 10/19/12]
TA-W | Subject firm (petitioners) | Location | Date of institution | Date of petition
82074 | Komax Solar, Inc. (Workers) | York, PA | 10/15/12 | 10/12/12
82075 | Ingersoll Rand/Trane (Union) | Tyler, TX | 10/15/12 | 10/12/12
82076 | Manitowoc Foodservice, Lincoln Foodservice Division (Union) | Fort Wayne, IN | 10/15/12 | 10/12/12
82077 | Consolidated Pine Inc. (Workers) | Prineville, OR | 10/15/12 | 10/12/12
82078 | ASF Keystone, Inc. (Union) | Granite City, IL | 10/15/12 | 10/12/12
82079 | WellPoint Inc. (Anthem Blue Cross Blue Shield) (Workers) | Richmond & Roanoke, VA | 10/15/12 | 10/12/12
82080 | International Business Machines Corporation (IBM) (State/One-Stop) | Richmond, VA | 10/15/12 | 10/11/12
82081 | Teters Floral Products (Workers) | Bolivar, MO | 10/15/12 | 10/12/12
82082 | The Evercare Company dba OneCare (State/One-Stop) | Waynesboro, GA | 10/16/12 | 10/15/12
82083 | Net Cracker (State/One-Stop) | Cincinnati, OH | 10/16/12 | 10/15/12
82084 | Greene Brothers Furniture (Workers) | North Wilkesboro, NC | 10/17/12 | 09/20/12
82085 | Spherion Staffing (State/One-Stop) | Ft. Collins, CO | 10/17/12 | 10/16/12
82086 | Ball Metal Container Corporation (Union) | Columbus, OH | 10/17/12 | 10/16/12
82087 | Medtronic Advanced Energy (Formerly Known as PEAK Surgical., Inc) (Company) | Palo Alto, CA | 10/17/12 | 10/16/12
82088 | Deloitte Tax LLP (State/One-Stop) | Los Angeles, CA | 10/17/12 | 10/16/12
82089 | The Billings Gazette (Workers) | Billings, MT | 10/17/12 | 10/15/12
82090 | Oce Reprographic Technologies (State/One-Stop) | Phoenix, AZ | 10/17/12 | 10/16/12
82091 | T-Shirt International Inc. (Company) | Culloden, WV | 10/18/12 | 10/16/12
82092 | General Mills (State/One-Stop) | Minneapolis, MN | 10/18/12 | 10/18/12
82093 | Korean Air (Workers) | Los Angeles, CA | 10/18/12 | 10/17/12
82094 | Anthem Insurance Companies/Wellpoint, Inc. (State/One-Stop) | Cape Girardeau, MO | 10/18/12 | 10/17/12
82095 | Verizon Services Corporation (Workers) | Clarksburg, WV | 10/18/12 | 08/07/12

[FR Doc. 2012-27417 Filed 11-8-12; 8:45 am]

BILLING CODE 4510-FN-P